DEPARTMENT OF ENERGY

Environmental Management Site-Specific Advisory Board, Idaho Cleanup Project

AGENCY: Office of Environmental Management, Department of Energy.

ACTION: Notice of open meeting.

SUMMARY: This notice announces an in-person/virtual hybrid meeting of the Environmental Management Site-Specific Advisory Board (EM SSAB), Idaho Cleanup Project (ICP). The Federal Advisory Committee Act requires that public notice of this meeting be announced in the Federal Register.

DATES: Wednesday, October 25, 2023; 9:00 a.m.-4:15 p.m. MDT.

Opportunities for public comment will be at 10:45 a.m. and 2:30 p.m. MDT.

These times are subject to change; please contact the ICP Citizens Advisory Board (CAB) Administrator (below) for confirmation of times prior to the meeting.

ADDRESSES: This meeting will be open to the public in-person at the Sun Valley Lodge (address below) or virtually via Zoom. To attend virtually, please contact Mariah Porter, ICP CAB Administrator, by email mariah.porter@em.doe.gov or phone (208) 557-7857, no later than 5:00 p.m. MDT on Monday, October 23, 2023.

Board members, Department of Energy representatives, agency liaisons, and Board support staff will participate in-person at: Sun Valley Lodge, Limelight C, 1 Sun Valley Road, Sun Valley, ID 83353.

FOR FURTHER INFORMATION CONTACT: Mariah Porter, ICP CAB Administrator, by phone (208) 557-7857 or email mariah.porter@em.doe.gov or visit the Board's internet homepage at https://energy.gov/em/icpcab.

SUPPLEMENTARY INFORMATION:

Purpose of the Board: The purpose of the Board is to provide advice and recommendations concerning the following EM site-specific issues: clean-up activities and environmental restoration; waste and nuclear materials management and disposition; excess facilities; future land use and long-term stewardship. The Board may also be asked to provide advice and recommendations on any EM program components.

Tentative Agenda (agenda topics may change up to the day of the meeting; please contact Mariah Porter for the most current agenda):

1. Recent Public Outreach

2. ICP Overview

3. Program Presentations

Public Participation: The in-person/online virtual hybrid meeting is open to the public either in-person at the Sun Valley Lodge or via Zoom. To sign-up for public comment, please contact the ICP CAB Administrator (above) no later than 5:00 p.m. MDT on Monday, October 23, 2023. In addition to participation in the live public comment sessions identified above, written statements may be filed with the Board either five days before or five days after the meeting by sending them to the ICP CAB Administrator at the aforementioned email address. Written public comment received prior to the meeting will be read into the record. The Deputy Designated Federal Officer is empowered to conduct the meeting in a fashion that will facilitate the orderly conduct of business. Individuals wishing to make public comments will be provided a maximum of five minutes to present their comments.

Minutes: Minutes will be available by calling or emailing Mariah Porter, ICP CAB Administrator, phone (208) 557-7857 or email mariah.porter@em.doe.gov. Minutes will also be available at the following website: https://www.energy.gov/em/icpcab/listings/cab-meetings.

Signed in Washington, DC, on September 20, 2023.
LaTanya Butler,
Deputy Committee Management Officer.

[FR Doc. 2023-20763 Filed 9-25-23; 8:45 am]

BILLING CODE 6450-01-P